DEPARTMENT OF COMMERCE

National Oceanic and Atmospheric Administration

[I.D. 050400A]

Pacific Fishery Management Council; Public Meeting

AGENCY: National Marine Fisheries Service (NMFS), National Oceanic and Atmospheric Administration (NOAA), Commerce.

ACTION: Notice of public meeting.

SUMMARY: The Pacific Fishery Management Council's (Council) Ad-Hoc Marine Committee (MRC) to hold a work session that is open to the public.

DATES: The work session will be held Tuesday, May 30, 2000 and Wednesday, May 31, 2000. The meeting on Tuesday will start at 1 p.m. and end when business for the day has been finished. The Wednesday meeting will begin at 8 a.m. and will continue until 3 p.m.

ADDRESSES: The work session will be held at the Pacific Fishery Management Council office, 2130 SW Fifth Avenue, Suite 224, Portland, OR 97201.

FOR FURTHER INFORMATION CONTACT: Jim Seger, Pacific Fishery Management Council, (503) 326-6352.

SUPPLEMENTARY INFORMATION: The primary purpose of this work session is to review a draft analysis developed to assist in determining whether or not marine reserves should be used by the Council as a management tool.

Although non-emergency issues not contained in the Ad-Hoc Marine Reserve Committee meeting agenda may come before the Ad-Hoc Marine Reserve Committee for discussion, those issues may not be the subject of formal Ad-Hoc Marine Reserve Committee action during this meetings. Ad-Hoc Marine Reserve Committee action will be restricted to those issues specifically listed in this notice and any issues arising after publication of this notice that require emergency action under section 305(c) of the Magnuson-Stevens Fishery Conservation and Management Act, provided the public has been notified of the CPSMT's intent to take final action to address the emergency.

Special Accommodations

These meetings are physically accessible to people with disabilities. Requests for sign language interpretation or other auxiliary aids should be directed to Mr. John Rhoton at (503) 326-6352 at least 5 days prior to the meeting date.

Dated: May 5, 2000.
Richard W. Surdi,
Acting Director, Office of Sustainable Fisheries, National Marine Fisheries Service.

[FR Doc. 00-12294 Filed 5-15-00; 8:45 am]

BILLING CODE 3510-22-F